ENVIRONMENTAL PROTECTION AGENCY

40 CFR Parts 52 and 81

[EPA-R03-OAR-2024-0586; FRL-10536-02-R3]

Air Plan Approval; Pennsylvania; Redesignation Request and Associated Maintenance Plan for the Liberty-Clairton Area for the 1997 Annual and 2006 24-Hour Fine Particulate Matter Standard and Maintenance Plan for the Allegheny County Area for the 2012 Annual Fine Particulate Matter Standard

Correction

In Rule Document 2025-13893, appearing on pages 34770-34773 in the issue of Thursday, July 24, 2025, make the following correction:

§ 52.2020 Identification of plan [Corrected].

1. On page 34772, in section 52.2020, in the table in paragraph (e)(1), in the fourth column, in the first row, in the first line, “7/24/26” should read “7/24/25”.

2. On page 34772, in section 52.2020, in the table in paragraph (e)(1), in the fourth column, in the second row, in the first line, “7/24/26” should read “7/24/25”.

§ 52.2059 Control strategy: Particulate matter [Corrected].

3. On page 34773, in the table titled “Table 15 to Paragraph (aa)—Allegheny County Area's Motor Vehicle Emission Budgets for the 2012 Annual PM2.5 NAAQS in Tons Per Year”, in the fifth column, in the first row, in the first line, “7/24/26]” should read “7/24/25”.

[FR Doc. C1-2025-13893 Filed 8-7-25; 8:45 am]

BILLING CODE 0099-10-D